FEDERAL MARITIME COMMISSION

Ocean Transportation Intermediary License Reissuances

The Commission gives notice that the following Ocean Transportation Intermediary licenses have been reissued pursuant to section 19 of the Shipping Act of 1984 (46 U.S.C. 40101).

License No.: 018413F.

Name: Chicago Int'l Forwarder Incorporated.

Address: 301 Oliver Court, Westmont, IL 60559.

Date Reissued: March 24, 2013.

License No.: 018824F.

Name: Christopher Onyekwere dba Aqua Maritime Services.

Address: 3639 Campfield Court, Katy, TX 77449.

Date Reissued: March 24, 2013.

License No.: 018839F.

Name: Aliana Express, Inc.

Address: 11100 E. Artesia Blvd., Suite H, Cerritos, CA 90703.

Date Reissued: March 24, 2013.

License No.: 020337N.

Name: WTG Logistics, Inc. dba WTG International.

Address: 140 Epping Road, Exeter, NH 03833.

Date Reissued: March 27, 2013.

License No.: 020953F.

Name: Gold Cargo Freight, Corp.

Address: 8233 NW 68th Street, Miami, FL 33166.

Date Reissued: March 21, 2013.

License No.: 021073F.

Name: All Over Export, Inc. dba Caraval.

Address: 1120 SW 86th Court, Miami, FL 33144.

Date Reissued: March 28, 2013.

License No.: 021440F.

Name: Coreana Express (Sea-Tac) Inc.

Address: 6858 South 220th Street, Kent, WA 98032.

Date Reissued: March 24, 2013.

Vern W. Hill,
Director, Bureau of Certification and Licensing.

[FR Doc. 2013-09719 Filed 4-23-13; 8:45 am]

BILLING CODE 6730-01-P